DEPARTMENT OF HOMELAND SECURITY

Information Analysis and Infrastructure Protection; Telecommunications Service Priority System Oversight Committee

AGENCY: National Communications System (NCS), Department of Homeland Security.

ACTION: Committee management; notice of advisory committee renewal.

SUMMARY: The Department of Homeland Security (DHS) has renewed the charter for the Telecommunications Service Priority (TSP) System Oversight Committee.

SUPPLEMENTARY INFORMATION: Pursuant to the Federal Advisory Committee Act, Public Law 92-463, as amended (5 U.S.C. App. 2, et seq.) the Secretary of Homeland Security has renewed the charter for the TSP System Oversight Committee. This renewal follows consultation with the Committee Management Secretariat, General Services Administration and has been determined by the Secretary to be in the public interest in connection with the performance of duties imposed on DHS by law.

The TSP System Oversight Committee identifies and reviews any problems developing in the TSP System and recommends actions to correct them or prevent recurrence. The TSP System Oversight Committee Designated Federal Officer is Lt. Col. Joanne Sechrest, USAF.

FOR FURTHER INFORMATION CONTACT: Susan Flint, NCS Office of Priority Telecommunications, 703-607-4932. Media or press should contact Mr. Steve Barrett at 703-607-6211.

Peter M. Fonash,
Acting Deputy Manager, National Communications System.

[FR Doc. 05-2093 Filed 2-2-05; 8:45 am]

BILLING CODE 4410-10-M